NATIONAL FOUNDATION ON THE ARTS AND THE HUMANITIES

Institute of Museum and Library Services

Submission for OMB Review, Comment Request, Proposed Collection: Museums for All Program Evaluation

AGENCY: Institute of Museum and Library Services, National Foundation on the Arts and the Humanities.

ACTION: Submission for OMB review, request for comments, collection of information.

SUMMARY: The Institute of Museum and Library Services (IMLS) announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the Museums for All Program Evaluation. A copy of the proposed information collection request can be obtained by contacting the individual listed below in the FOR FURTHER INFORMATION CONTACT section of this Notice.

DATES: Written comments must be submitted to the office listed in the ADDRESSES section below on or before March 24, 2024.

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

FOR FURTHER INFORMATION CONTACT: Helen Wechsler, Supervisory Grants Management Specialist, Office of Museum Services, Institute of Museum and Library Services, 955 L'Enfant Plaza North SW, Suite 4000, Washington, DC 20024-2135. Ms. Wechsler can be reached by Telephone: 202-653-4779, or by email at hwechsler@imls.gov. Persons who are deaf or hard of hearing (TTY users) can contact IMLS at 202-207-7858 via 711 for TTY-Based Telecommunications Relay Service.

SUPPLEMENTARY INFORMATION: IMLS is the primary source of Federal support for the nation's libraries and museums. We advance, support, and empower America's museums, libraries, and related organizations through grant making, research, and policy development. To learn more, visit www.imls.gov.

Current Actions: This Notice proposes the clearance of a program evaluation of the IMLS Museums for All Initiative to assess the impact of the program on participating institutions. A current IMLS cooperative agreement includes an evaluation of the Museums for All initiative, a program through which participating institutions offer free or reduced-price admission to families facing financial need. As part of this evaluation effort, a questionnaire, which is the subject of this Notice, will be undertaken to solicit information from participating institutions in Museums for All about the initiative's implementation, benefits, and areas for improvement. A small number of participating institution staff will be interviewed virtually or in person as part of case study research. These information collections will be developed based on what is needed to undertake the evaluation. The information IMLS collects will build on, but not duplicate existing or ongoing information collections.

The 60-day Notice was published in the Federal Register on December 20, 2023 (88 FR 88135) (Document Number 2023-27900). The agency has taken into consideration the one comment that was received under this Notice.

Agency: Institute of Museum and Library Services.

Title: Museums for All Program Evaluation.

OMB Control Number: 3137—NEW.

Agency Number: 3137.

Affected Public: Museum staff.

Total Number of Respondents: 914.

Frequency of Response: One time.

Average Hours per Response: .268.

Total Burden Hours: 245.

Total Annualized Capital/Startup Costs: n/a.

Total Annual Cost Burden: $7,951.

Total Annual Federal Costs: $50,000.

Dated: February 20, 2024.
Suzanne Mbollo,
Grants Management Specialist, Institute of Museum and Library Services.

[FR Doc. 2024-03794 Filed 2-23-24; 8:45 am]

BILLING CODE 7036-01-P